Proclamation 8222 of February 28, 2008

Save Your Vision Week, 2008

By the President of the United States of America

A Proclamation

Early diagnosis and proper treatment of eye disease can help preserve the gift of sight. During Save Your Vision Week, we encourage Americans to receive routine vision screenings and to understand the importance of keeping their eyes healthy and safe.

Today, millions of Americans live with some form of eye disease, such as glaucoma, corneal disease, macular degeneration, or diabetic eye disease. Individuals can help to avoid these diseases and maintain healthy eyes by following good eating habits, using appropriate protective eyewear, and maintaining a healthy lifestyle. Citizens should discuss with their physician the dangers of eye disease and see that their children are tested before their first year of school.

My Administration will continue to seek better ways to prevent and treat eye diseases. The National Eye Institute's website, www.nei.nih.gov, provides many resources to help Americans find information on eye disease and on where to find local eye-care professionals. By being proactive, Americans can help prevent vision loss and live healthier lives.

The Congress, by joint resolution approved December 30, 1963, as amended (77 Stat. 629; 36 U.S.C. 138), has authorized and requested the President to proclaim the first week in March of each year as “Save Your Vision Week.”

NOW, THEREFORE, I, GEORGE W. BUSH, President of the United States of America, do hereby proclaim March 2 through March 8, 2008, as Save Your Vision Week. I encourage all Americans to learn more about eye care and eye safety and to take measures to help ensure a lifetime of healthy vision.

IN WITNESS WHEREOF, I have hereunto set my hand this twenty-eighth day of February, in the year of our Lord two thousand eight, and of the Independence of the United States of America the two hundred and thirty-second.

[FR Doc. 08-941

Filed 2-29-08; 8:58 am]

Billing code 3195-01-P